DEPARTMENT OF HOMELAND SECURITY

Federal Emergency Management Agency

Agency Information Collection Activities: Proposed Collection; Comment Request

AGENCY: Federal Emergency Management Agency, Emergency Preparedness and Response Directorate, Department of Homeland Security.

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments concerning the information collection outlined in 44 CFR part 71, as it pertains to application for National Flood Insurance Program (NFIP) insurance for buildings located in Coastal Barrier Resource System (CBRS) communities.

SUPPLEMENTARY INFORMATION: The Coastal Barrier Resources Act (CBRA Pub. L. 97-3480) and the Coastal Barrier Improvement Act (CBRA Pub. L. 101-591) are Federal laws that were enacted on October 1, 1982, and November 16, 1990, respectively. The legislation was implemented as part of a Department of the Interior (DOI) initiative to preserve the ecological integrity of areas DOI designates as coastal barriers and otherwise protected areas. The laws provide this protection by prohibiting all Federal expenditures or financial assistance including flood insurance for residential or commercial development in areas identified with the system. When an application for flood insurance is submitted for buildings located in CBRS communities, documentation must be submitted as evidence of eligibility.

FEMA regulation 44 CFR part 71 implements the Coastal Barrier Resources Act. The documentation required in 44 CFR section 71.4 is provided to FEMA for a determination that a building which is located on a designated coastal barrier and for which a application for flood insurance is being made, is neither new construction or a substantial improvement, and is, therefore, eligible for NFIP coverage. If the information is not collected, NFIP policies would be provided for buildings, which are legally ineligible for it, thus exposing the Federal Government to an insurance liability Congress chose to limit.

Collection of Information

Title: Implementation of Coastal Barrier Resources Act.

Type of Information Collection: Extension of a currently approved collection.

OMB Number: 1660-0010.

Abstract: When an application for flood insurance is submitted for buildings located in CBRS communities, one of the following types of documentation must be submitted as evidence of eligibility:

—Certification from a community official stating the building is not located in a designated CBRS area.

—A legally valid building permit or certification from a community official stating that the building's start of construction date preceded the date that the community was identified in the system.

—Certification from the governmental body overseeing the area indicating that the building is used in a manner consistent with the purpose for which the area is protected.

Affected Public: Individuals or households; Businesses or other for-profits; Not-for-profit institutions; Farms; Federal Government; and State, local or tribal governments.

Number of Respondents: 60.

Frequency of Response: One time.

Hours Per Response: 1.5 hours.

Estimated Total Annual Burden Hours: 90.

Estimated Total Cost to Respondents: $600 (60 respondents × $10 per respondent). The cost to the respondent, i.e., applicant for flood insurance, is the cost if any, to obtain the required documentation from local officials. Fees charged, if any, to the applicants, are nominal, i.e., the cost of photocopying the public record. Information of this type is frequently provided upon request free of charge by the community as a public service. The average cost to the respondent is estimated to be $10, the cost to make phone calls, mail a written request, or make a trip to a local office to obtain the document, and includes any copying fees, which may be charged by the local office.

Comments: Written comments are solicited to (a) Evaluate whether the proposed data collection is necessary for the proper performance of the agency, including whether the information shall have practical utility; (b) Evaluate the accuracy of the agency's estimate of the burden of the proposed collection of information, including the validity of the methodology and assumptions used; (c) Enhance the quality, utility, and clarity of the information to be collected; and (d) Minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Section Chief, Records Management, Information Resources Management Branch, Information Technology Services Division, Federal Emergency Management Agency, Emergency Preparedness and Response Directorate, Department of Homeland Security, 500 C Street, SW., Room 316, Washington, DC 20472.

FOR FURTHER INFORMATION CONTACT: Contact Lynn Sawyer, Program Analyst, Risk Insurance Branch, Mitigation Division, at 301-918-1452 for additional information. You may contact Ms. Anderson for copies of the proposed collection of information at facsimile number (202) 646-3347 or e-mail address: FEMA-Information-Collections@dhs.gov.

Dated: November 18, 2004.
Edward W. Kernan,
Branch Chief, Information Resources Management Branch, Information Technology Services Division.

[FR Doc. 04-26603 Filed 12-2-04; 8:45 am]

BILLING CODE 9110-11-P